LEGAL SERVICES CORPORATION

Sunshine Act Meeting

TIME AND DATE: The Legal Services Corporation's (LSC) Board Finance Committee will meet remotely on Wednesday, June 30, 2021. The meeting will commence at 1:00 p.m. EDT, continuing until the conclusion of the Committee's agenda.

PLACE: PUBLIC NOTICE OF VIRTUAL REMOTE MEETING

LSC will conduct the June 30, 2021 meeting virtually via ZOOM.

Public Observation: Unless otherwise noted herein, the Finance Committee meeting will be open to public observation. Members of the public who wish to participate virtually may do so by following the directions provided below.

Directions for Open Sessions:

• To join the Zoom meeting by computer, please click this link.

○ https://lsc-gov.zoom.us/j/97306046834?pwd=d1ZvRmJzZTQ2TnltWlUvcEk0RHRpZz09

○ Meeting ID: 973 0604 6834

○ Passcode: 870033

• To join the Zoom meeting with one tap from your mobile phone, please click dial:

○ +13017158592,,97306046834# US (Washington DC)

○ +13126266799,,97306046834# US (Chicago)

• To join the Zoom meeting by telephone, please dial one of the following numbers:

○ +1 301 715 8592 US (Washington, DC)

○ +1 312 626 6799 US (Chicago)

○ +1 646 876 9923 US (New York)

○ +1 408 638 0968 US (San Jose)

○ +1 669 900 6833 US (San Jose)

○ +1 253 215 8782 US (Tacoma)

○ +1 346 248 7799 US (Houston)

○ Meeting ID: 973 0604 6834

○ Find your local number: https://lsc-gov.zoom.us/u/adI2lh1Gkr

• Once connected to the Zoom meeting, please immediately “MUTE” your telephone/computer microphone.

• Members of the public are asked to keep their telephones muted to eliminate background noises. To avoid disrupting the meeting, please refrain from placing the call on hold if doing so will trigger recorded music or other sound. From time to time, the Chair may solicit comments from the public.

STATUS: Open.

MATTERS TO BE CONSIDERED:

1. Approval of meeting agenda

2. Approval of minutes of the Finance Committee's meeting on April 19, 2021

3. Discussion with LSC leadership regarding recommendations for the organization's Fiscal Year 2023 budget request

• Ronald S. Flagg, President

• Carol A. Bergman, Vice President for Government Relations & Public Affairs

4. Discussion with leadership from the Office of Inspector General (OIG) for the Legal Services Corporation regarding OIG's Fiscal Year 2023 budget request

• Jeffrey E. Schanz, Inspector General

• David Maddox, Assistant Inspector General for Management and Evaluation

5. Public comment

6. Consider and act on other business

7. Consider and act on adjournment of meeting

CONTACT PERSON FOR INFORMATION: Jessica Wechter, Board Relations Coordinator, (202) 295-1626. Questions may be sent by electronic mail to FR_NOTICE_QUESTIONS@lsc.gov.

Accessibility: LSC complies with the Americans with Disabilities Act and Section 504 of the 1973 Rehabilitation Act. Upon request, meeting notices and materials will be made available in alternative formats to accommodate individuals with disabilities. Individuals needing other accommodations due to disability to attend the meeting in person or telephonically should contact Jessica Wechter at (202) 295-1626 or FR_NOTICE_QUESTIONS@lsc.gov, at least 2 business days in advance of the meeting. If a request is made without advance notice, LSC will make every effort to accommodate the request but cannot guarantee that all requests can be fulfilled.

Dated: June 17, 2021.
Stefanie Davis,
Senior Assistant General Counsel.

[FR Doc. 2021-13179 Filed 6-17-21; 4:15 pm]

BILLING CODE 7050-01-P